DEPARTMENT OF THE INTERIOR

Bureau of Ocean Energy Management

[OMB Control Number 1010-0057; Docket ID: BOEM-2017-0016]

Agency Information Collection Activities; Pollution Prevention and Control

AGENCY: Bureau of Ocean Energy Management, Interior

ACTION: Notice of Information Collection; request for comment.

SUMMARY: In accordance with the Paperwork Reduction Act of 1995, the Bureau of Ocean Energy Management (BOEM) is proposing to renew an information collection with revisions.

DATES: Interested persons are invited to submit comments on or before October 9, 2020.

ADDRESSES: Send your comments on this information collection request (ICR) to the BOEM Information Collection Clearance Officer, Anna Atkinson, Bureau of Ocean Energy Management, 45600 Woodland Road, VAM-DIR, Sterling, Virginia 20166 (mail); or by email to anna.atkinson@boem.gov. Please reference OMB Control Number 1010-0057 in the subject line of your comments.

FOR FURTHER INFORMATION CONTACT: To request additional information about this ICR, contact Anna Atkinson, 703-787-1205, or by email at anna.atkinson@boem.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

BOEM is soliciting comments on the proposed ICR that is described below. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in our request to Office of Management and Budget (OMB) for approval of this ICR. Before including your address, phone number, email address, or other personally identifiable information in your comment, you should be aware that your entire comment—including your personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

Abstract: Section 5(a) of the Outer Continental Shelf (OCS) Lands Act, as amended (43 U.S.C. 1334(a)), authorizes the Secretary of the Interior (Secretary) to prescribe rules and regulations to manage the mineral resources of the OCS. Such rules and regulations apply to all operations conducted under a lease, right-of-use and easement, and pipeline right-of-way.

Section 5(a)(8) of the OCS Lands Act (43 U.S.C. 1334(a)(8)) requires that regulations prescribed by the Secretary include provisions “for compliance with the national ambient air quality standards pursuant to the Clean Air Act (42 U.S.C. 7401 et seq.), to the extent that activities authorized under this subchapter significantly affect the air quality of any State.” This information collection renewal with revisions concerns information that is submitted in response to regulatory requirements, such as the regulations at 30 CFR part 550, subpart C, Pollution Prevention and Control that implement section 5(a)(8) and related Notices to Lessees and Operators (NTLs) that clarify and provide additional guidance on some aspects of these regulations. BOEM uses the information to inform its decisions on plan approval, to ensure operations are conducted according to all applicable regulations and plan conditions of approval, and to inform State and regional planning organizations' modeling efforts.

BOEM prepares an Emissions Inventory every three years to help ensure that its regulations comply with section 5(a)(8) of OCS Lands Act, 43 U.S.C. 1334(a)(8), and to implement the requirement at 30 CFR 550.303(k) and 550.304(g). BOEM begins this effort by issuing an NTL with instructions about how lessees can submit basic information about their operations that are subject to sec. 5(a)(8) regulations, from which BOEM's software calculates emissions information. BOEM is planning to issue the next such guidance in the Fall for a collection period in calendar year 2021. These emission inventories provide BOEM with the essential input needed to assess offshore OCS oil and gas activity impacts to the states as mandated by the OCSLA. They also provide the states the essential tools needed to perform their State Implementation Plan demonstrations to the U.S. Environmental Protection Agency (USEPA), and they provide the operators essential data for their mandatory reporting of greenhouse gases to the USEPA.

BOEM is developing and planning to implement a web-based solution that will allow operators to submit their platform and non-platform activity data electronically, instantaneously calculate monthly and annual emissions, quality assure and control data, and generate reports, such as emission inventory reports, and data graphics to the operators and to BOEM. To collect the necessary emissions data from companies, BOEM currently uses the Gulfwide Offshore Activity Data System (GOADS) software. This software is out of date and resides on a platform that BOEM is no longer able to utilize satisfactorily. Therefore, BOEM plans to implement a new web-based solution that would allow users to input their information directly into the system, which in turn will allow BOEM to access the data and create reports needed to assess oil and gas source impacts to States. Unlike the existing tool, the new solution will make it easy for users to enter activity data, calculate emissions data in real-time for users, and leverage built-in validation features to quality check the calculations prior to submission.

BOEM protects proprietary information according to the Freedom of Information Act (FOIA) (5 U.S.C. 552) and the Department of the Interior's implementing FOIA regulations (43 CFR part 2) and under regulations at 30 CFR 550.197, “Data and information to be made available to the public or for limited inspection,” promulgated pursuant to sec. 26 of OCSLA (43 U.S.C. 1352(c).”

Title of Collection: 30 CFR Part 550, Subpart C, Pollution Prevention and Control.

OMB Control Number: 1010-0057.

Form Number: None.

Type of Review: Revision of a currently approved collection.

Respondents/Affected Public: Potential respondents comprise Federal OCS oil and gas or sulphur lessees and States.

Total Estimated Number of Annual Respondents: 807.

Respondent's Obligation: Mandatory or Required to Obtain or Retain a Benefit.

Frequency: Every three years.

Total Estimated Annual Non-hour Burden Cost: None.

Estimated Reporting and Recordkeeping Hour Burden: We estimate the annual burden for this collection to be 35,200 hours, which are the same hours estimated in past reports accepted by OMB. The following table details the individual BOEM components and respective hour burden estimates of this ICR.

Burden Table
Citation 30 CFR 550 subpart C and related NTL(s) | Reporting and recordkeeping requirement | Hour burden | Average number of annual responses | Annual burden hours
Facilities described in new or revised EP or DPP
303; 304(a), (f) | Submit, modify, or revise Exploration Plans and Development and Production Plans; submit information required under 30 CFR Part 550, Subpart B | Burden covered under 1010-0151 (30 CFR Part 550, Subpart B). |  | 0
303(k); 304(a), (g); NTL | Collect and report (in manner specified) air quality emissions related data (such as facility, equipment, fuel usage, and other activity information) during each specified calendar year for input into BOEM's impacts assessments, and State and regional planning organizations' modeling through specified software. (NTL OCS Emissions Inventory) | 44 hrs per facility | 794 facilities | 34,936
303(l); 304(h) | Collect and submit (in manner specified) meteorological data (not routinely collected); emission data for existing facilities to a State | 8 | 1 submission | 8
Subtotal |  |  | 795 | 34,944
Existing Facilities
304(a), (f) | Affected State may submit request with required information to BOEM for basic emission data from existing facilities to update State's emission inventory | 16 | 5 requests | 80
304(e)(2) | Submit compliance schedule for application of best available control technology (BACT) | 40 | 1 schedule | 40
304(e)(2) | Apply for suspension of operations | Burden covered under BSEE 1014-0022 (30 CFR 250.174) |  | 0
304(f) | Submit information to demonstrate that exempt facility is not significantly affecting air quality of onshore area of a State. Submit additional information, as required | 16 | 1 submission | 16
Subtotal |  |  | 7 | 136
General
303-304 | Departure and alternative compliance requests not specifically covered elsewhere in subpart C regulations | 24 | 5 requests | 120
Subtotal |  |  | 5 | 120
Total Burden |  |  | 807 | 35,200

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulations, and Analysis.

[FR Doc. 2020-17405 Filed 8-7-20; 8:45 am]

BILLING CODE 4310-MR-P